DEPARTMENT OF HEALTH AND HUMAN SERVICES

Centers for Disease Control and Prevention

[60Day-06-0595]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Performance Evaluation Program for Rapid HIV Testing (0920-0595)—Revision—National Center for Health Marketing (NCHM), Coordinating Center for Health Information and Service (CoCHIS), Centers for Disease Control and Prevention (CDC).

Background and Brief Description

To support our mission of improving public health and preventing disease through continuously improving laboratory practices, the Model Performance Evaluation Program (MPEP), Division of Laboratory Systems, Coordinating Center for Health Information and Service, Centers for Disease Control and Prevention intends to continue the currently ongoing HIV rapid testing performance evaluation program (HIV Rapid Testing MPEP). This program offers external performance evaluation (PE) for rapid tests such as the OraQuick® Rapid HIV-1 Antibody Test, approved as a waived test by the U.S. Food and Drug Administration, and for other licensed tests such as the MedMira Reveal®. Participation in PE programs is expected to lead to improved HIV testing performance because participants have the opportunity to identify areas for improvement in testing practices. This program helps to ensure accurate testing as a basis for development of HIV prevention and intervention strategies.

This external quality assessment program is made available at no cost (for receipt of sample panels) to sites performing rapid testing for HIV antibodies. This program offers laboratories/testing sites an opportunity for:

(1) Assuring that the laboratories/testing sites are providing accurate tests through external quality assessment;

(2) Improving testing quality through self-evaluation in a nonregulatory environment;

(3) Testing well characterized samples from a source outside the test kit manufacturer;

(4) Discovering potential testing problems so that laboratories/testing sites can adjust procedures to eliminate them;

(5) Comparing individual laboratory/testing site results to others at a national and international level, and

(6) Consulting with CDC staff to discuss testing issues.

Participants in the MPEP HIV Rapid Testing program are required to complete a laboratory practices questionnaire survey annually. This questionnaire has a number of changes from the last OMB submission. In addition, participants are required to submit results twice/year after testing mailed performance evaluation samples. There is no cost to the respondents other than their time.

Estimated Annualized Burden Hours
Form | Number of respondents | Frequency of responses | Average burden per response | Total burden hours
HIV Rapid Testing Questionnaire | 750 | 1 | 20/60 | 250
HIV Rapid Testing Results Booklet | 750 | 2 | 10/60 | 250
Total |  |  |  | 500

Dated: March 29, 2006.
Betsey Dunaway,
Acting Reports Clearance Officer, Centers for Disease Control and Prevention.

[FR Doc. E6-4919 Filed 4-4-06; 8:45 am]

BILLING CODE 4163-18-P